COMMISSION ON CIVIL RIGHTS

Sunshine Act Notice

AGENCY: United States Commission on Civil Rights.

ACTION: Notice of Business Meeting.

DATE AND TIME: Friday, August 15, 2014; 9:30 a.m. EST.

PLACE: 1331 Pennsylvania Ave. NW., Suite 1150, Washington, DC 20425.

Business Meeting Agenda

I. Program Planning

• Discussion and Vote on Part A & Part B of the briefing report: Increasing Compliance with Section 7 of the NVRA

II. Management and Operations

• Staff Director's Report

III. State Advisory Committee (SAC) Appointments

• Indiana

• North Carolina

• Oklahoma

• Virginia

CONTACT PERSON FOR FURTHER INFORMATION: Lenore Ostrowsky, Acting Chief, Public Affairs Unit (202) 376-8591.

Hearing-impaired persons who will attend the briefing and require the services of a sign language interpreter should contact Pamela Dunston at (202) 376-8105 or at signlanguage@usccr.gov at least seven business days before the scheduled date of the meeting.

Dated: August 4, 2014.
David Mussatt,
Chief, Regional Programs Unit.

[FR Doc. 2014-18733 Filed 8-5-14; 11:15 am]

BILLING CODE 6335-01-P